DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by December 30, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: 2022 Wisconsin Groundwater Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of houses or businesses that use private drinking wells near land used for agriculture in Wisconsin.

Selected houses or businesses in Wisconsin will be asked to provide data on age of the well, well specifications, water treatment from well, and drinking use. The respondent will also be asked to provide a water sample for analysis by the Wisconsin State Hygiene Lab.

General authority for these data collection activities is granted under U.S.C. title 7, section 2204. This survey will be conducted on a full cost recovery basis with the Wisconsin Department of Agriculture, Trade and Consumer Protection (DATCP) providing funding under a cooperative agreement.

Need and Use of the Information: According to the Wisconsin Department of Natural Resources (DNR) (https://dnr.wisconsin.gov/topic/Wells), “About one-quarter of Wisconsin's population drinks water drawn from over 800,000 private wells.” The groundwater survey is necessary because private drinking water wells serve as the primary source of water for many rural Wisconsin residents. DATCP and Wisconsin Department of Natural Resources (DNR) use the data from the survey to identify the current state of pesticide and nitrate contaminants in private drinking water wells in Wisconsin. The data are used to inform discussions with US Environmental Protection Agency (EPA)—Office of Pesticides Programs (OPP) and pesticide registrants for pesticides that are found to be of increased occurrence or concentration in private wells.

Description of Respondents: Houses or businesses that use private drinking wells near land used for agriculture in Wisconsin.

Number of Respondents: 500.

Frequency of Responses: Reporting: Once a year.

Total Burden Hours: 159.

National Agricultural Statistics Service

Title: Egg, Chicken, and Turkey Surveys.

OMB Control Number: 0535-0004.

Summary of Collection: The primary objective of the National Agricultural Statistics Service (NASS) is to collect, prepare and issue State and national estimates of crop and livestock production, prices, and disposition; as well as economic statistics, environmental statistics related to agriculture and also to conduct the Census of Agriculture.

The Egg, Chicken, and Turkey Surveys obtain basic poultry statistics from voluntary cooperators throughout the Nation. Statistics are published on placement of pullet chicks for hatchery supply flocks; hatching reports for broiler-type, egg-type, and turkey eggs; number of layers on hand; total table egg production; and production and value estimates for eggs, chickens, and turkeys. The frequencies of the surveys being conducted include weekly, monthly, and annually.

Need and Use of the Information: This information is used by producers, processors, feed dealers, and others in marketing and supply channels as a basis for production and marketing decisions. Government agencies use these estimates to evaluate poultry product supplies. The information is an important consideration in government purchases for the National School Lunch Program and in formulation of export-import policy. The current expiration date for this docket is March 31, 2022.

Description of Respondents: Farmers, ranchers, farm managers, and farm contractors.

Number of Respondents: 2,667.

Frequency of Responses: Various from weekly to annually.

Total Burden Hours: 25,401.

Dated: November 24, 2021.
Levi S. Harrell,
Departmental Information Collection Clearance Officer.

[FR Doc. 2021-26038 Filed 11-29-21; 8:45 am]

BILLING CODE 3410-20-P